DEPARTMENT OF THE INTERIOR

Fish and Wildlife Service

Notice of Availability of Final Comprehensive Conservation Plan (CCP) for Maxwell National Wildlife Refuge, Maxwell, NM

AGENCY: Fish and Wildlife Service, Department of the Interior.

ACTION: Notice of availability.

SUMMARY: The U.S. Fish and Wildlife Service (Service) announces that the Final CCP for the Maxwell National Wildlife Refuge is available. This CCP was prepared pursuant to the National Wildlife Refuge System Administration Act of 1966, as amended by the National Wildlife Refuge System Improvement Act of 1997 (16 U.S.C. 668dd-668ee et seq.), and the National Environmental Policy Act of 1969 (42 U.S.C. 4321-4370d). Goals and objectives in the CCP describe how the Service intends to manage the refuge over the next 15 years.

ADDRESSES: Copies of the CCP are available on compact disk or in hard copy, and can be obtained by writing: U.S. Fish and Wildlife Service, Attn: Carol Torrez, Division of Planning, P.O. Box 1306, Albuquerque, New Mexico, 87103-1306. It will be available for viewing or downloaded online at http://www.fws.gov/southwest/refuges/plan/index.html.

FOR FURTHER INFORMATION CONTACT: Patty Hoban, Refuge Manager, Maxwell National Wildlife Refuge, P.O. Box 276, Maxwell, New Mexico 87728: telephone: 505-375-2331; or Carol Torrez, Biologist/Natural Resource Planner, U.S. Fish and Wildlife Service, Division of Planning, P.O. Box 1306, Albuquerque, New Mexico, 87103-1306; telephone: 505-248-6821; e-mail: carol_torrez@fws.gov.

SUPPLEMENTARY INFORMATION: The Maxwell National Wildlife Refuge is located in Colfax County, in northeastern New Mexico. This 3,699 acre refuge is comprised of 2,300 acres of grassland; 907 acres of lakes (which are leased from Vermejo Conservancy District); 50 acres of wetlands; 39 acres of woodlots; 440 acres of croplands; several miles of irrigation canals; and 10 acres of administrative lands. It was established on August 24, 1965 by the authority of the Migratory Bird Conservation Act of 1929 (16 U.S.C. 712d) “* * * for use as an inviolate sanctuary, or any other management purpose, for migratory birds.” The refuge provides important habitat for numerous migratory waterfowl and neotropical bird species, as well as other resident wildlife.

The National Wildlife Refuge System Administration Act of 1966, as amended by the National Wildlife Refuge System Improvement Act of 1997 (16 U.S.C. 668dd-668ee et seq.), requires the Service to develop a CCP for each national wildlife refuge. The purpose of developing CCPs is to provide refuge managers with a 15-year strategy for achieving refuge purposes and contributing toward the mission of the National Wildlife Refuge System, consistent with sound principles of fish and wildlife science, conservation, legal mandates, and Service policies. In addition to outlining broad management direction on conserving wildlife and their habitats, the CCPs identify wildlife-dependent recreational opportunities available to the public, including opportunities for hunting, fishing, wildlife observation and photography, and environmental education and interpretation. These CCPs will be reviewed and updated at least every 15 years in accordance with the National Wildlife Refuge System Administration Act of 1966, as amended by the National Wildlife Refuge System Improvement Act of 1997, and the National Environmental Policy Act of 1969.

The availability of Maxwell NWR's Draft CCP and Environmental Assessment (EA) for a 60-day public review and comment period was announced in the Federal Register on December 23, 2005 (70 FR 76323). The Draft CCP/EA identified and evaluated three alternatives for managing the refuge for the next 15 years. Alternative A, the No Action Alternative, would have continued current management of the refuge. Alterative B, the Preferred Alternative, would implement a variety of management activities (farming, prescribed burning, experimental grazing, and mechanical and chemical invasive species control methods) to improve habitat and benefit a wide variety of wildlife species that use the refuge. Alternative C proposes to manage Maxwell NWR as part of a complex with Las Vegas NWR and turn all farming efforts over to cooperative farmers. Based on this assessment and comments received, the Preferred Alternative (Alternative B) was selected for implementation. This alternative was selected because it best meets the purposes and goals of the refuge, as well as the goals of the National Wildlife Refuge System. Management of the refuge for the next 15 years will focus on farming to provide food for migrating and wintering waterfowl, encouraging ecological integrity, promoting native prairie restoration, controlling invasive plant species, and enhancing habitat for grassland birds and other resident wildlife. Opportunities for wildlife-dependent activities such as observation, photography, environmental education, and interpretation will be enhanced. Partnerships with county, state, and Federal agencies, private landowners, and conservation groups will also enable the refuge to achieve its goals and objectives, minimize costs, and bridge relationships with others.

Dated: April 14, 2006.
Geoffrey L. Haskett,
Acting Regional Director, U.S. Fish and Wildlife Service, Albuquerque, New Mexico.

[FR Doc. E6-9569 Filed 6-16-06; 8:45 am]

BILLING CODE 4310-55-P